DEPARTMENT OF ENERGY

Federal Energy Regulatory Commission

Combined Notice of Filings #1

Take notice that the Commission received the following exempt wholesale generator filings:

Docket Numbers: EG23-65-000.

Applicants: Storey Energy Center, LLC.

Description: Storey Energy Center, LLC submits Notice of Self-Certification of Exempt Wholesale Generator Status.

Filed Date: 1/19/23.

Accession Number: 20230119-5170.

Comment Date: 5 p.m. ET 2/9/23.

Docket Numbers: EG23-66-000.

Applicants: Texas Solar Nova 1, LLC.

Description: Texas Solar Nova 1, LLC submits Notice of Self-Certification of Exempt Wholesale Generator Status.

Filed Date: 1/20/23.

Accession Number: 20230120-5011.

Comment Date: 5 p.m. ET 2/10/23.

Take notice that the Commission received the following electric rate filings:

Docket Numbers: ER23-451-001.

Applicants: TN Solar 1, LLC.

Description: Compliance filing: TN Solar 1 Notification of Test Power &amp; Lease Commencement to be effective 11/18/2022.

Filed Date: 1/20/23.

Accession Number: 20230120-5131.

Comment Date: 5 p.m. ET 2/10/23.

Docket Numbers: ER23-452-001.

Applicants: EEC Skyhawk Lessee LLC.

Description: Compliance filing: EEC Skyhawk Notification of Test Power &amp; Lease Commencement to be effective 12/31/9998.

Filed Date: 1/20/23.

Accession Number: 20230120-5132.

Comment Date: 5 p.m. ET 2/10/23.

Docket Numbers: ER23-512-001.

Applicants: PJM Interconnection, L.L.C.

Description: Tariff Amendment: Request to Defer Action-Amended ISA No. 6007; Queue No. AD2-115; Docket ER23-512 to be effective 12/31/9998.

Filed Date: 1/20/23.

Accession Number: 20230120-5012.

Comment Date: 5 p.m. ET 2/10/23.

Docket Numbers: ER23-853-000; ER23-854-000; ER23-884-000.

Applicants: Sonoran Solar Energy, LLC, Storey Energy Center, LLC, Saint Energy Storage II, LLC.

Description: Supplement to January 17 & 18, 2023 Saint Energy Storage II, LLC, et al. Application for Market-Based Rate Authorization.

Filed Date: 1/19/23.

Accession Number: 20230119-5238.

Comment Date: 5 p.m. ET 2/9/23.

Docket Numbers: ER23-903-000; TS23-2-000.

Applicants: Happy Solar 1, LLC, Happy Solar 1, LLC.

Description: Request for Temporary Waiver, et al. of Happy Solar 1, LLC.

Filed Date: 1/19/23.

Accession Number: 20230119-5144.

Comment Date: 5 p.m. ET 2/9/23.

Docket Numbers: ER23-905-000.

Applicants: Midcontinent Independent System Operator, Inc., ITC Midwest LLC.

Description: § 205(d) Rate Filing: Midcontinent Independent System Operator, Inc. submits tariff filing per 35.13(a)(2)(iii): 2023-01-20_SA 3974 ITC Midwest-Interstate Power E&P (J1734) to be effective 1/12/2023.

Filed Date: 1/20/23.

Accession Number: 20230120-5027.

Comment Date: 5 p.m. ET 2/10/23.

Docket Numbers: ER23-906-000.

Applicants: Midcontinent Independent System Operator, Inc., Great River Energy, Northern States Power Company, a Minnesota corporation.

Description: § 205(d) Rate Filing: Midcontinent Independent System Operator, Inc. submits tariff filing per 35.13(a)(2)(iii): 2023-01-20_SA 3962 NSPM-GRE Winthrop TIA to be effective 1/31/2023.

Filed Date: 1/20/23.

Accession Number: 20230120-5028.

Comment Date: 5 p.m. ET 2/10/23.

Docket Numbers: ER23-907-000.

Applicants: Niagara Mohawk Power Corporation, New York Independent System Operator, Inc.

Description: § 205(d) Rate Filing: Niagara Mohawk Power Corporation submits tariff filing per 35.13(a)(2)(iii): Niagara Mohawk Section 205 Filing: TSC Formula Rate Revisions to be effective 3/22/2023.

Filed Date: 1/20/23.

Accession Number: 20230120-5072.

Comment Date: 5 p.m. ET 2/10/23.

Docket Numbers: ER23-908-000.

Applicants: Duke Energy Progress, LLC.

Description: Tariff Amendment: DEP-NCEMC—Cancellation of RS No. 134 to be effective 3/22/2023.

Filed Date: 1/20/23.

Accession Number: 20230120-5073.

Comment Date: 5 p.m. ET 2/10/23.

Docket Numbers: ER23-909-000.

Applicants: International Transmission Company.

Description: § 205(d) Rate Filing: CIAC Agreement with DTE to be effective 3/22/2023.

Filed Date: 1/20/23.

Accession Number: 20230120-5078.

Comment Date: 5 p.m. ET 2/10/23.

Docket Numbers: ER23-910-000.

Applicants: Midcontinent Independent System Operator, Inc.

Description: § 205(d) Rate Filing: 2023-01-20_SA 2328 California Ridge-Ameren 4th Rev GIA (H100 J196) to be effective 1/6/2023.

Filed Date: 1/20/23.

Accession Number: 20230120-5086.

Comment Date: 5 p.m. ET 2/10/23.

Docket Numbers: ER23-911-000.

Applicants: ISO New England Inc., New England Power Pool Participants Committee.

Description: § 205(d) Rate Filing: ISO New England Inc. submits tariff filing per 35.13(a)(2)(iii): ISO-NE/NEPOOL; Revisions to Clarify the Calculation of CTR to PPU to be effective 3/21/2023.

Filed Date: 1/20/23.

Accession Number: 20230120-5089.

Comment Date: 5 p.m. ET 2/10/23.

Docket Numbers: ER23-912-000.

Applicants: Sun Streams Expansion, LLC.

Description: § 205(d) Rate Filing: Market-Based Rate Application and Request for Expedited Action to be effective 3/6/2023.

Filed Date: 1/20/23.

Accession Number: 20230120-5091.

Comment Date: 5 p.m. ET 2/10/23.

Docket Numbers: ER23-913-000.

Applicants: UNS Electric, Inc.

Description: § 205(d) Rate Filing: Engineering and Materials Agreement to be effective 1/23/2023.

Filed Date: 1/20/23.

Accession Number: 20230120-5109.

Comment Date: 5 p.m. ET 2/10/23.

Docket Numbers: ER23-914-000.

Applicants: Midcontinent Independent System Operator, Inc.

Description: § 205(d) Rate Filing: 2023-01-20_SA 6522 MISO-Manitowoc Public Utilities SSR Agreement for Lakefront 9 to be effective 2/1/2023.

Filed Date: 1/20/23.

Accession Number: 20230120-5127.

Comment Date: 5 p.m. ET 2/10/23.

Docket Numbers: ER23-915-000.

Applicants: Michael Best & Friedrich, LLP.

Description: Middletown Energy Storage LLC Requests Prospective, Limited Tariff Waiver of Attachment S of the New York Independent System Operator Inc. OATT.

Filed Date: 1/20/23.

Accession Number: 20230120-5170.

Comment Date: 5 p.m. ET 1/27/23.

Docket Numbers: ER23-916-000.

Applicants: Michael Best & Friedrich, LLP.

Description: Athens Energy Storage LLC Requests Prospective, Limited Tariff Waiver of Attachment S of the New York Independent System Operator Inc. OATT.

Filed Date: 1/20/23.

Accession Number: 20230120-5173.

Comment Date: 5 p.m. ET 1/27/23.

Docket Numbers: ER23-917-000.

Applicants: Midcontinent Independent System Operator, Inc.

Description: § 205(d) Rate Filing: 2023-01-20_Submittal of Schedule 43L Lakefront 9 SSR Cost Allocation to be effective 2/1/2023.

Filed Date: 1/20/23.

Accession Number: 20230120-5185.

Comment Date: 5 p.m. ET 2/10/23.

Take notice that the Commission received the following public utility holding company filings:

Docket Numbers: PH23-2-000.

Applicants: BlackRock, Inc.

Description: BlackRock, Inc. submits FERC-65A Notice of Material Change in Fact to Waiver Notification.

Filed Date: 1/20/23.

Accession Number: 20230120-5108.

Comment Date: 5 p.m. ET 2/10/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2023.
Debbie-Anne A. Reese,
Deputy Secretary.

[FR Doc. 2023-01946 Filed 1-30-23; 8:45 am]

BILLING CODE 6717-01-P